DEPARTMENT OF THE TREASURY

Financial Literacy and Education Commission's Two-Day Summit on Kindergarten Through Postsecondary Financial Education: Correction

AGENCY: Departmental Offices, Treasury.

ACTION: Notice; correction.

SUMMARY: The Department of the Treasury published a document in the Federal Register of January 5, 2007, concerning the Financial Literacy and Education Commission's Two-Day Summit on Kindergarten through Postsecondary Financial Education. The document contained an incorrect name for the location of the second day of the event.

FOR FURTHER INFORMATION CONTACT: Luz Figuereo by e-mail at: FLECstrategy@do.treas.gov or by telephone at (202) 622-5770 (not a toll free number).

Correction

In the Federal Register of January 5, 2007, in FR Doc. E6-22614, on page 625, in the last sentence of the third column, correct “Department of Education” to read “Department of the Treasury”.

Dated: January 18, 2007.
Dan Iannicola, Jr.,
Deputy Assistant Secretary for Financial Education.

[FR Doc. E7-1116 Filed 1-24-07; 8:45 am]

BILLING CODE 4811-02-P